ENVIRONMENTAL PROTECTION AGENCY

[FRL-7390-9]

Environmental Laboratory Advisory Board (ELAB) Meeting Date, and Agenda

AGENCY: Environmental Protection Agency (EPA).

ACTION: Notice of public meeting.

SUMMARY: The Environmental Protection Agency's Environmental Laboratory Advisory Board (ELAB) will hold an Open Forum on Tuesday, November 19, 2002 at 5-6 p.m. MST and an Open Meeting on Thursday, November 21, 2002 at 9 a.m.-12 p.m. MST at the La Fonda Hotel, 100 E. San Francisco Street, Santa Fe, New Mexico. The ELAB meetings will be held in conjunction with the NELAC Eighth Interim Meeting occurring in the same location the week of November 17. Members of the public are invited to attend both ELAB events. Items to be discussed include: (1) An update on implementation of the National Environmental Laboratory Accreditation Conference (NELAC) restructuring, (2) discussion of future ELAB recommendations to EPA, and (3) the hearing of public comments and views on the environmental laboratory accreditation. ELAB is soliciting input from the public on these and other issues related to the National Environmental Laboratory Accreditation Program (NELAP) and the NELAC standards. Written comments on NELAP laboratory accreditation and the NELAC standards are encouraged and should be sent to Mr. Edward Kantor, DFO, U.S. EPA, P.O. Box 93478, Las Vegas NV 89193, or faxed to (702) 798-2261, or e-mailed to kantor.edward@epa.gov. or can be presented in person at the Open Forum, November 19, 2002. Members of the public are invited to raise issues or to make comments at the Open Forum, and time permitting, will be allowed to comment on discussions ensued from the ELAB Open Meeting.

Dated: September 30, 2002.
John G. Lyon,
Director, Environmental Sciences Division, National Environmental Research Laboratory.

[FR Doc. 02-25418 Filed 10-4-02; 8:45 am]

BILLING CODE 6560-50-P